DEPARTMENT OF DEFENSE

Office of the Secretary

Department of the Army

[Docket ID: USA-2018-HQ-0024]

Proposed Collection; Comment Request

AGENCY: U.S. Army Corps of Engineers, DoD.

ACTION: Information collection notice.

SUMMARY: In compliance with the Paperwork Reduction Act of 1995, the U.S. Army Corps of Engineers announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by December 31, 2018.

ADDRESSES: You may submit comments, identified by docket number and title, by any of the following methods:

• Federal eRulemaking Portal: http://www.regulations.gov. Follow the instructions for submitting comments.

• Mail: Department of Defense, Office of the Chief Management Officer, Directorate for Oversight and Compliance, 4800 Mark Center Drive, Mailbox #24 Suite 08D09, Alexandria, VA 22350-1700.

Instructions: All submissions received must include the agency name, docket number, and title for this Federal Register document. The general policy for comments and other submissions from members of the public is to make these submissions available for public viewing on the internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the U.S. Army Corps of Engineers Omaha District, ATTN: Kelly Baxter, 1616 Capitol Ave., Ste. 9000, Omaha, NE 68102; call at 402-995-2447; or email at Kelly.D.Baxter@usace.army.mil.

SUPPLEMENTARY INFORMATION: For a secondary source to request more information on this proposed information collection, please write to the U.S. Army Corps of Engineers Walla Walla District, ATTN: Karen Zelch, 201 N 3rd Ave, Walla Walla, WA 99362; call at 509-527-7251; or email at Karen.S.Zelch@usace.army.mil.

OMB Number: Pacific Northwest Households Recreation Use Surveys, OMB Control Number 0710-XXXX.

Needs and Uses: The U.S. Army Corps of Engineers, Bonneville Power Administration (BPA), and Bureau of Reclamation (BOR), are jointly developing an environmental impact statement (EIS), referred to as the Columbia River System Operations (CRSO) EIS. As part of the EIS, the Corps is tasked with evaluating changes in the economic value provided by water-based recreation.

The purpose of this survey effort is to gather information that will support development of a water-based recreational demand model for the Columbia River Basin in Washington, Oregon, Idaho, and western Montana. The proposed design involves a mail survey for preliminary screening to identify eligible recreators, followed by a telephone survey of eligible recreators to collect data on recreational trips and activities within the region. The model will be used to evaluate recreational impacts associated with alternatives identified within the CRSO EIS.

Mail Screener

Affected Public: Individuals or households.

Annual Burden Hours: 1,150.

Number of Respondents: 11,500.

Responses per Respondent: 1.

Annual Responses: 11,500.

Average Burden per Response: 6 minutes.

Frequency: One-time.

Follow-up Telephone Survey

Affected Public: Individuals or households.

Annual Burden Hours: 414.

Number of Respondents: 1,242.

Responses per Respondent: 1.

Annual Responses: 1,242.

Average Burden per Response: 20 minutes.

Frequency: One-time.

Average Totals

Annual Burden Hours: 1,564.

Number of Respondents: 11,500.

Responses per Respondent: 1.

Annual Responses: 11,500.

Average Burden per Response: 8.16 minutes.

Frequency: One-time.

We anticipate that approximately 11,500 households will complete the mail screener. Based on the results of a small pretest, we expect that it will take approximately 1 minute to read the screener letter and approximately 5 minutes to complete the screener questionnaire (total of 6 minutes per respondent). Approximately 1,242 eligible adults within those households will complete the follow-up telephone survey. Also based on the results of a small pretest, we expect that it will take approximately 20 minutes to complete the follow-up telephone survey. Based on that data, the burden for 10,258 households will be 6 minutes. The burden for 1,242 eligible adults will be a total of 26 minutes. This yields a total respondent burden estimate of 1,564 hours.

Dated: October 25, 2018.
Morgan E. Park,
Alternate OSD Federal Register Liaison Officer, Department of Defense.

[FR Doc. 2018-23675 Filed 10-29-18; 8:45 am]

BILLING CODE 5001-06-P